DEPARTMENT OF THE TREASURY

Alcohol and Tobacco Tax and Trade Bureau

27 CFR Part 9

[Docket No. TTB-2010-0003; Notice No. 112; re: Notice Nos. 105 and 107]

RIN 1513-AB41

Proposed Establishment of the Pine Mountain-Mayacmas Viticultural Area; Comment Period Reopening

AGENCY: Alcohol and Tobacco Tax and Trade Bureau, Treasury.

ACTION: Notice of proposed rulemaking; reopening of comment period.

SUMMARY: The Alcohol and Tobacco Tax and Trade Bureau is reopening the comment period for Notice No. 105, which concerned a proposal to establish an American viticultural area having the name Pine Mountain-Mayacamas. This reopening of the comment period solicits comments from the public on issues that were raised in public comments received in response to Notice No. 105. Three specific issues which we seek comments on concern the proper name for the proposed viticultural area, the viticultural significance of a suggested alternative name for the viticultural area, and the propriety of expanding the boundary of the proposed viticultural area.

DATES: We must receive written comments on or before February 15, 2011.

ADDRESSES: You may send comments on this notice to one of the following addresses:

• http://www.regulations.gov: Use the comment form for this notice as posted within Docket No. TTB-2010-0003 on “Regulations.gov,” the Federal e-rulemaking portal, to submit comments via the Internet;

• Mail: Director, Regulations and Rulings Division, Alcohol and Tobacco Tax and Trade Bureau, P.O. Box 14412, Washington, DC 20044-4412.

• Hand Delivery/Courier in Lieu of Mail: Alcohol and Tobacco Tax and Trade Bureau, 1310 G Street, NW., Suite 200-E, Washington, DC 20005.

See the Public Participation section of this notice for specific instructions and requirements for submitting comments, and for information on how to request a public hearing.

You may view copies of all published notices and all comments received about this proposal within Docket No. TTB-2010-0003 at http://www.regulations.gov. A direct link to this docket is posted on the TTB Web site at http://www.ttb.gov/wine/wine-rulemaking.shtml under Notice No. 105. You also may view copies of all published notices, all supporting materials, and any comments we receive about this proposal by appointment at the TTB Information Resource Center, 1310 G Street, NW., Washington, DC 20220. Please call 202-453-2270 to make an appointment.

FOR FURTHER INFORMATION CONTACT: Elisabeth C. Kann, Regulations and Rulings Division, Alcohol and Tobacco Tax and Trade Bureau, 1310 G Street NW., Suite 200-E, Washington, DC 20220; phone 202-453-2002.

SUPPLEMENTARY INFORMATION:

Petition History

The Alcohol and Tobacco Tax and Trade Bureau (TTB) received a petition from Sara Schorske of Compliance Service of America, prepared and filed on her own behalf and on behalf of local wine industry members, to establish the 4,600-acre “Pine Mountain-Mayacmas” American viticultural area in northern California. About two-thirds of the proposed viticultural area lies in the extreme southern portion of Mendocino County, with the remaining one-third located in the extreme northern portion of Sonoma County. The proposed Pine Mountain-Mayacmas viticultural area is totally within the multicounty North Coast viticultural area (27 CFR 9.30), and it overlaps the northernmost portions of the established Alexander Valley viticultural area (27 CFR 9.53) and the Northern Sonoma viticultural area (27 CFR 9.70).

In Notice No. 105, published in the Federal Register (75 FR 29686) on May 27, 2010, TTB described the petitioners' rationale for the proposed establishment of the Pine Mountain-Mayacmas viticultural area and requested comments on the proposal on or before July 26, 2010.

On July 16, 2010, TTB received a letter request from attorney Richard Mendelson on behalf of the Napa Valley Vintners (NVV), a wine industry trade association. The request explained that due to periodic scheduling of the NVV's committee and board of directors meetings, the group would be unable to meet the original July 26, 2010, comment deadline for Notice No. 105. The letter therefore requested a 45-day extension to the comment period for Notice No. 105 to allow the NVV to complete and thoroughly vet its comments on the proposed viticultural area. In response to that request, on July 26, 2010, TTB published in the Federal Register (75 FR 43446) Notice No. 107 to extend the comment period for Notice No. 105 to September 9, 2010.

Comments Received

During the course of the original and extended comment period on Notice No. 105, TTB received and posted 85 comments from 70 groups and individuals; those comments may be viewed at the Regulations.gov Web site referred to under the ADDRESSES caption in this document. Commenters included 36 industry members and 34 non-industry individuals. Of the commenters, 54 supported, and 16 opposed, establishment of the Pine Mountain-Mayacmas viticultural area with the proposed name and boundary line. The comments in opposition to the proposal as published raised three issues that could warrant a change in the regulatory text proposed in Notice No. 105: (1) The appropriateness of the proposed Pine Mountain-Mayacmas name; (2) the viticultural significance of a suggested modified name for the proposed viticultural area; and (3) the inclusion of additional acreage within the boundary of the viticultural area.

With regard to the appropriateness of the Pine Mountain-Mayacmas name, some commenters questioned the “Mayacmas” portion of the name because “Mayacmas” is associated with the four counties of Napa, Sonoma, Lake, and Mendocino in northern California rather than just the smaller region within the proposed viticultural area boundary. A number of commenters supported use of the “Cloverdale Peak” name instead of “Mayacmas.” The following comments in response to Notice No. 105 stated opposition to the Pine Mountain-Mayacmas name: Nos. 41, 43, 44, 45, 48, 50, 53, 55, 56, 57, 59, 60, 63, 65, 76, 78, 79, 81, and 82. Comments that specifically supported the name change to “Pine Mountain-Cloverdale Peak” were as follows: Nos. 61, 62, 68, 69, 70, 71, 72, 73, 74, 75, 77, 80, 83, 84, and 85.

The comments supporting a modification of the name of the viticultural area also give rise to the companion issue of the viticultural significance of the modified name. The following comments addressed the viticultural significance of the “Pine Mountain-Cloverdale Peak” name: Nos. 61, 62, 68, 69, 71, 75, 77, 80, and 83.

Finally, one comment, No. 68, suggested that if “Pine Mountain-Cloverdale Peak” is adopted as the viticultural area name, an additional 500 acres along the northern border should be included within the boundary line, in order to encompass Cloverdale Peak. Another commenter suggested in comments 58 and 67 that an additional 40 acres along the southwest border be included within the boundary line.

Determination To Re-Open Public Comment Period

TTB reviewed all comments received in response to Notice No. 105 with reference to the original petition materials. We believe that the comment period for Notice No. 105, which extended from May 27, 2010 to September 9, 2010, was adequate to obtain comments on our initially proposed regulation. However, because of the potential affect on label holders if TTB were to adopt any of the changes proposed in the comments themselves, TTB has determined that it would be appropriate in this instance to re-open the comment period, for the specific purpose of obtaining further public comment on the three issues mentioned above that affect the original proposal, before taking any further regulatory action on this matter.

TTB invites comments on the use of “Cloverdale Peak” as a geographical name in conjunction with “Pine Mountain” to form the “Pine Mountain-Cloverdale Peak” viticultural area name. Furthermore, the Bureau invites comments on the viticultural significance of the full name “Pine Mountain-Cloverdale Peak” and on the viticultural significance of “Pine Mountain-Cloverdale,” “Cloverdale Peak,” and “Cloverdale” standing alone. As TTB pointed out in this regard in Notice No. 105, for a wine to be eligible to use a viticultural area name or other term of viticultural significance as an appellation of origin or in a brand name, at least 85 percent of the wine must be derived from grapes grown within the area represented by that name or other term, and the wine must meet the other conditions listed in 27 CFR 4.25(e)(3). If the wine is not eligible to use the viticultural area name as an appellation of origin, and that name or other term of viticultural significance appears in the brand name, then the label is not in compliance and the bottler must change the brand name and obtain approval of a new label. Similarly, if the viticultural area name or other term of viticultural significance appears in another reference on the label in a misleading manner, the bottler would have to obtain approval of a new label.

Finally, TTB invites comments on whether the boundary line should be expanded as suggested in the comments.

Public Participation

Comments Invited

The specific purpose of this comment solicitation is to invite comments from interested members of the public on the three issues described in this document that were raised in public comments received in response to Notice No. 105. Please provide any available specific information in support of your comments. All comments previously submitted to TTB regarding Notice No. 105 will be given full consideration, so there is no need to resubmit such comments.

Submitting Comments

You may submit comments on this notice by using one of the following three methods:

• Federal e-Rulemaking Portal: You may send comments via the online comment form linked to this notice in Docket No. TTB-2010-0003 on “Regulations.gov,” the Federal e-rulemaking portal, at http://www.regulations.gov. A link to the docket is available under Notice No. 105 on the TTB Web site at http://www.ttb.gov/wine/wine-rulemaking.shtml. Supplemental files may be attached to comments submitted via Regulations.gov. For information on how to use Regulations.gov, click on the site's Help or FAQ tabs.

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200-E, Washington, DC 20005.

Please submit your comments by the closing date shown above in this notice. Your comments must reference this notice and Notice No. 105 and include your name and mailing address. Your comments also must be made in English, be legible, and be written in language acceptable for public disclosure. TTB does not acknowledge receipt of comments, and the Bureau considers all comments as originals.

If you are commenting on behalf of an association, business, or other entity, your comment must include the entity's name as well as your name and position title. If you comment via Regulations.gov, please include the entity's name in the “Organization” blank of the comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or that is inappropriate for public disclosure.

Public Disclosure

On the Federal e-rulemaking portal, Regulations.gov, TTB will post, and the public may view, copies of all published notices and all comments received in response to those notices within Docket No. TTB-2010-0003. A direct link to that docket is available on the TTB Web site at http://www.ttb.gov/wine/wine-rulemaking.shtml under Notice No. 105. You may also reach Docket No. TTB-2010-0003 through the Regulations.gov search page at http://www.regulations.gov.

All posted comments will display the commenter's name, organization (if any), city, and State, and, in the case of mailed comments, all address information, including e-mail addresses. TTB may omit voluminous attachments or material that the Bureau considers unsuitable for posting.

You and other members of the public may view copies of all published notices, all related petitions, maps and other supporting materials, and all electronic or mailed comments TTB has received or will receive in response to this proposal by appointment at the TTB Information Resource Center, 1310 G Street, NW., Washington, DC 20220. You may also obtain copies at 20 cents per 8.5- x 11-inch page. Contact the TTB information specialist at the above address or by telephone at 202-453-2270 to schedule an appointment or to request copies of comments or other materials.

Drafting Information

Nancy Sutton and other members of the Regulations and Rulings Division drafted this notice.

Signed: December 10, 2010.
John J. Manfreda,
Administrator.

[FR Doc. 2010-31655 Filed 12-16-10; 8:45 am]

BILLING CODE 4810-31-P